DEPARTMENT OF LABOR

Office of the Secretary

[Docket No. DOL-2021-0006]

Telecommunications Interagency Working Group (TIWG)

AGENCY: Office of the Secretary, Department of Labor.

ACTION: Request for nominations for membership on the Telecommunications Interagency Working Group.

SUMMARY: The Secretary of Labor requests nominations for membership on the Telecommunications Interagency Working Group (TIWG).

DATES: Submit (send or transmit) nominations for TIWG by December 30, 2021.

ADDRESSES: You may submit nominations, including attachments, electronically to TelecomWorkingGroup@dol.gov.

Instructions. All nominations and supporting materials must include the agency name and docket number for this Federal Register document (Docket No. DOL-2021-0006).

FOR FURTHER INFORMATION CONTACT:

For press inquiries: Contact Ms. Amanda McClure, U.S. Department of Labor; 200 Constitution Avenue NW, Washington, DC 20210; telephone (202) 693-4676; email McClure.Amanda.C@dol.gov.

For general information about TIWG and TIWG membership: Ms. Valeria Treves, OSEC; 200 Constitution Avenue NW, Washington, DC 20210; telephone: 202-631-1132; email: treves.valeria@dol.gov.

SUPPLEMENTARY INFORMATION: The Secretary of Labor invites interested persons to submit nominations for membership on TIWG.

A. Background

Section 60602 of the Infrastructure Investment and Jobs Act directed the Chair of the Federal Communications Commission (“Chair”), in partnership with the Secretary of Labor (“Secretary”), to form TIWG “to develop recommendations to address the workforce needs of the telecommunications industry.” Infrastructure Investment and Jobs Act, Public Law 117-58, 60602, 135 Stat. 429 (Nov. 15, 2021) (to be codified at 47 U.S.C. 344) (“Infrastructure Investment and Jobs Act”). TIWG must be established by January 14, 2022, at which point the majority of members must be appointed. TIWG must prepare a report with “recommendations to address the workforce needs of the telecommunications industry, including the safety of that workforce” not later than one year after its establishment that will:

(1) Determine whether, and if so how, any Federal laws, regulations, guidance, policies, or practices, or any budgetary constraints, may be amended to strengthen the ability of institutions of higher education (as defined in section 101 of the Higher Education Act of 1965 (20 U.S.C. 1001)) or for-profit businesses to establish, adopt, or expand programs intended to address the workforce needs of the telecommunications industry, including the workforce needed to build and maintain the 5G wireless infrastructure necessary to support 5G wireless technology;

(2) Identify potential policies and programs that could encourage and improve coordination among Federal agencies, between Federal agencies and States, and among States, on telecommunications workforce needs;

(3) Identify ways in which existing Federal programs, including programs that help facilitate the employment of veterans and military personnel transitioning into civilian life, could be leveraged to help address the workforce needs of the telecommunications industry;

(4) Identify ways to improve recruitment in workforce development programs in the telecommunications industry;

(5) Identify Federal incentives that could be provided to institutions of higher education, for-profit businesses, State workforce development boards established under section 101 of the Workforce Innovation and Opportunity Act (29 U.S.C. 3111), or other relevant stakeholders to establish or adopt new programs, expand current programs, or partner with registered apprenticeship programs, to address the workforce needs of the telecommunications industry, including such needs in rural areas;

(6) Identify ways to improve the safety of telecommunications workers, including tower climbers; and

(7) Identify ways that trends in wages, benefits, and working conditions in the telecommunications industry impact recruitment of employees in the sector.”

The statute provides that the Federal Advisory Committee Act (5 U.S.C. App.) shall not apply to TIWG.

B. TIWG Membership

Pursuant to section 60602(d) of the Infrastructure Investment and Jobs Act, the Secretary will select three members of TIWG from outside organizations. Accordingly, the Department seeks nominations and expressions of interest from individuals and organizations interested in consideration under one or more of the following categories:

• A representative of a labor organization representing the telecommunications workforce;

• A representative of a registered apprenticeship program in construction or maintenance; and

• A public interest advocate for tower climber safety.

In addition to one member from each of the above-mentioned categories, TIWG will comprise the following membership selected from individuals or organizations: (i) A representative of a telecommunications industry association, appointed by the Chair of the FCC; (ii) a representative of a Native American Tribe or Tribal organization, appointed by the Chair; (iii) a representative of a rural telecommunications carrier, appointed by the Chair; (iv) a telecommunications contractor firm, appointed by the Chair; and (v) a representative of an institution of higher education, appointed by the Secretary of Education. The membership will also be comprised of the following federal agency representatives: (i) A representative of the FCC, appointed by the Chair; (ii) a representative of the Directorate of Construction of the Occupational Safety and Health Administration, appointed by the Secretary of Labor; (iii) a representative of the National Telecommunications and Information Administration, appointed by the Assistant Secretary of Commerce for Communications and Information; and (iv) a representative of the Department of Education, appointed by the Secretary of Education.

Members must be willing to commit to serving on TIWG for one year. While the chair and a vice chair, which TIWG will name, will be responsible for organizing the business of the working group, the time commitment for participation in TIWG or any subgroup, if established, may be substantial. However, meetings may be conducted informally, using suitable technology to facilitate the meetings.

The Department of Labor is committed to equal opportunity in the workplace and seeks broad-based and diverse TIWG membership. Any interested person or organization may nominate one or more individuals for membership on TIWG. Interested persons are also invited and encouraged to submit statements in support of nominees.

C. Submission Requirements

Nominations must include the following information:

• Name, title, and organization of the nominee and a description of the organization, sector, or other interest the nominee will represent;

• Nominee's mailing address, email address, and telephone number;

• Nominee's résumé or curriculum vitae, including relevant organizations and associations;

• A statement summarizing the nominee's qualifications and reasons why the nominee should be appointed to TIWG; and

• A statement, if the nominee will represent a specific organization, describing the organization as well as the benefit of having the organization represented on TIWG.

D. Member Selection

The Secretary will select TIWG members on the basis of their experience, knowledge, and competence in the field as appropriate for each of the three slots. Although the Federal Advisory Committee Act does not apply to the TIWG, nominees will be evaluated for potential conflicts of interests. Information received through this nomination process, in addition to other relevant sources for information, will assist the Secretary in appointing members to TIWG. In selecting TIWG members, the Secretary will consider individuals nominated in response to this Federal Register document, as well as other qualified individuals.

Authority and Signature

Rajesh D. Nayak, Assistant Secretary for Policy, Office of the Assistant Secretary for Policy, U.S. Department of Labor, 200 Constitution Avenue NW, Washington, DC 20210, authorized the preparation of this document.

Signed at Washington, DC, on December 17, 2021.
Rajesh D. Nayak,
Assistant Secretary for Policy, Office of the Assistant Secretary for Policy.

[FR Doc. 2021-27755 Filed 12-17-21; 4:15 pm]

BILLING CODE 4510-HX-P